COMMITTEE FOR THE IMPLEMENTATION OF TEXTILE AGREEMENTS

Determination Under the Textile and Apparel Commercial Availability Provision of the Dominican Republic-Central America-United States Free Trade Agreement (“CAFTA-DR Agreement”)

AGENCY: The Committee for the Implementation of Textile Agreements.

ACTION: Determination to remove a product currently included in Annex 3.25 of the CAFTA-DR Agreement.

DATES: Effective Date: January 14, 2015.

SUMMARY: The Committee for the Implementation of Textile Agreements (“CITA”) has determined that certain ring spun single yarn of micro modal fibers, as specified below, is available in the CAFTA-DR countries in commercial quantities in a timely manner. The product, which is currently included in Annex 3.25 of the CAFTA-DR Agreement in unrestricted quantities, will be removed, effective 180 days after publication of this notice.

FOR FURTHER INFORMATION CONTACT: Maria Dybczak, Office of Textiles and Apparel, U.S. Department of Commerce, (202) 482-3651.

For Further Information On-Line: http://web.ita.doc.gov/tacgi/CaftaReqTrack.nsf under “Approved Requests,” Reference number: 186.2014.06.12.Yarn.Alston&BirdforBuhlerYarns.

SUPPLEMENTARY INFORMATION:

Authority: The CAFTA-DR Agreement; Section 203(o)(4) of the Dominican Republic-Central America-United States Free Trade Agreement Implementation Act (“CAFTA-DR Implementation Act”), Pub. Law 109-53; the Statement of Administrative Action, accompanying the CAFTA-DR Implementation Act; and Presidential Proclamation 7987 (February 28, 2006).

Background: The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5) by adding or removing items when the United States determines that a fabric, yarn, or fiber is not available in commercial quantities in a timely manner in the territory of any Party; or when the United States determines that a fabric, yarn, or fiber currently on the list is available in commercial quantities in a timely manner. The CAFTA-DR Implementation Act authorizes the President to make such modifications to the list in Annex 3.25. See Annex 3.25 of the CAFTA-DR Agreement; see also section 203(o)(4)(C) and (E) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of CAFTA-DR Implementation Act for modifying the list in Annex 3.25. Pursuant to this authority, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200 (September 15, 2008)) (“CITA's procedures”).

On June 12, 2014, the Acting Chairman of CITA received a request from Alston & Bird LLP, on behalf of Buhler Quality Yarns (“Buhler”) for a Commercial Availability determination to remove or restrict (“Request to Remove”) certain ring spun single yarns of micro modal fibers, currently listed in Annex 3.25. Buhler offered to supply the specified yarn and provided information demonstrating their ability to supply commercial quantities in a timely manner. On June 13, 2014, in accordance with CITA's procedures, CITA notified interested parties of the Request to Remove, which was posted on the dedicated Web site for CAFTA-DR commercial availability proceedings. In its notification, CITA advised that any Response to the Request to Remove must be submitted by June 26, 2014, and any Rebuttal Comments to a Response must be submitted by July 2, 2014, in accordance with Sections 6, 7 and 9 of CITA's procedures. No Response to the Request to Remove was placed on the record of the proceeding.

In accordance with section 203(o)(4)(C) of the CAFTA-DR Implementation Act, Section 8(a) and (b), and Section 9(c)(1) of CITA's procedures, as no interested entity submitted a Response objecting to the Request to Remove, CITA has determined to approve the Request to Remove the subject product from the list in Annex 3.25. Pursuant to Section 9(c)(3)(iii)(A), textile and apparel articles containing the subject product are not to be treated as originating in a CAFTA-DR country if the subject product is obtained from non-CAFTA-DR sources, effective for goods entered into the United States on or after 180 calendar days after the date of publication of this notice. A revised list in Annex 3.25, noting the effective date of the removal of the subject product, has been posted on the dedicated Web site for CAFTA-DR commercial availability proceedings.

Specifications: Certain Ring Spun Single Yarns of Micro Modal Fibers: Certain ring spun single yarns of English yarn number 30 and higher of 0.9 denier or finer micro modal fibers, classified in subheading 5510.11.0000 of the Harmonized Tariff Schedule of the United States (HTSUS).

Janet E. Heinzen,
Acting Chairman, Committee for the Implementation of Textile Agreements.

[FR Doc. 2014-16912 Filed 7-17-14; 8:45 am]

BILLING CODE 3510-DR-P